DEPARTMENT OF COMMERCE

National Oceanic and Atmospheric Administration

[I.D. 042605D]

Western Pacific Fishery Management Council; Public Hearings

AGENCY: National Marine Fisheries Service (NMFS), National Oceanic and Atmospheric Administration (NOAA), Commerce.

ACTION: Notice of public hearings.

SUMMARY: The Western Pacific Fishery Management Council (Council) will hold hearings on fishery data collection management options in Hilo, HI and Honolulu, HI. See SUPPLEMENTARY INFORMATION for specific times, dates, and agenda items).

ADDRESSES: The hearings will be held at the Hawaii Naniloa Hotel, 93 Banyan Dr., Hilo, HI 96720 and the Western Pacific Fishery Management Council Office, 1164 Bishop St., Suite 1400, Honolulu, HI 96813.

DATES: The hearings will be held in Hilo, HI on May 13 2005, from 6 p.m. to 9 p.m. and Honolulu, HI on May 19, 2005, from 6 p.m. to 9 p.m.

FOR FURTHER INFORMATION CONTACT: Kitty M. Simonds, Executive Director; telephone: (808) 522-8220.

SUPPLEMENTARY INFORMATION: In December of 2004, the Western Pacific Regional Fishery Management Council (Council) was advised by NMFS that overfishing of Pacific-wide bigeye tuna was occurring and requested the Council take appropriate action to end overfishing. At its 126th meeting, March 14-17, 2005, in Honolulu, the Council took action and unanimously voted to develop initiatives to address overfishing of bigeye tuna in Hawaii. One initiative is to require permits and catch reports for Hawaii small pelagic fishing boats in order to provide scientists with complete fishery information.

Bottomfish resources in the main Hawaiian islands have been locally depleted and an overfishing situation similar to bigeye tuna may be occurring. The Council will begin to assess and develop measures to address overfishing in the main Hawaiian islands by collecting data from the fishery and establishing measures to reduce fishing mortality. Options for collecting data on the bottomfish and pelagic fisheries in Hawaii will be presented to the Council in June.

The Council is seeking comments and opinions on these initiatives and will present management options for fishery data collection for Pelagic and Bottomfish fisheries in Hawaii at the following hearings:

Friday, May 13, 2005, at the Hawaii Naniloa Hotel in Hilo, HI, from 6 p.m. to 9 p.m.

Thursday, May 19, 2005, at the Council Office in Honolulu, HI, from 6 p.m. to 9 p.m.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These hearings are physically accessible to people with disabilities. Requests for sign language interpretation or other auxiliary aids should be directed to Kitty M. Simonds, (808) 522-8220 (voice) or (808) 522-8226 (fax), at least 5 days prior to the hearing date.

Dated: April 27, 2005.
Tracey Thompson,
Acting Director. Office of Sustainable Fisheries, National Marine Fisheries Service.

[FR Doc. E5-2112 Filed 4-29-05; 8:45 am]

BILLING CODE 3510-22-S